DEPARTMENT OF ENERGY

Federal Energy Regulatory Commission

Combined Notice of Filings

Take notice that the Commission has received the following Natural Gas Pipeline Rate and Refund Report filings:

Filings Instituting Proceedings

Docket Numbers: RP25-776-000.

Applicants: NEXUS Gas Transmission, LLC.

Description: § 4(d) Rate Filing: Negotiated Rates—Various Releases—eff 4-1-2025 to be effective 4/1/2025.

Filed Date: 3/31/25.

Accession Number: 20250331-5284.

Comment Date: 5 p.m. ET 4/14/25.

Docket Numbers: RP25-777-000.

Applicants: Stagecoach Pipeline & Storage Company LLC.

Description: § 4(d) Rate Filing: Stagecoach Tariff Language Revisions to be effective 5/1/2025.

Filed Date: 3/31/25.

Accession Number: 20250331-5287.

Comment Date: 5 p.m. ET 4/14/25.

Docket Numbers: RP25-778-000.

Applicants: Cheyenne Connector, LLC.

Description: Compliance filing: CC 2025-03-31 Annual L&U Report to be effective N/A.

Filed Date: 3/31/25.

Accession Number: 20250331-5304.

Comment Date: 5 p.m. ET 4/14/25.

Docket Numbers: RP25-779-000.

Applicants: Trailblazer Pipeline Company LLC.

Description: Compliance filing: TPC 2025-03-31 Penalty Revenues Refund Report to be effective N/A.

Filed Date: 3/31/25.

Accession Number: 20250331-5312.

Comment Date: 5 p.m. ET 4/14/25.

Docket Numbers: RP25-780-000.

Applicants: Trailblazer Pipeline Company LLC.

Description: § 4(d) Rate Filing: TPC 2025-03-31 Negotiated Rate Agreement Amendment to be effective 4/1/2025.

Filed Date: 3/31/25.

Accession Number: 20250331-5315.

Comment Date: 5 p.m. ET 4/14/25.

Docket Numbers: RP25-781-000.

Applicants: Tennessee Gas Pipeline Company, L.L.C.

Description: § 4(d) Rate Filing: Negotiated Rate Agreements—Various Shippers Apr 2025 to be effective 4/1/2025.

Filed Date: 3/31/25.

Accession Number: 20250331-5319.

Comment Date: 5 p.m. ET 4/14/25.

Docket Numbers: RP25-782-000.

Applicants: Northern Natural Gas Company.

Description: § 4(d) Rate Filing: 20250331 Negotiated Rate to be effective 4/1/2025.

Filed Date: 3/31/25.

Accession Number: 20250331-5358.

Comment Date: 5 p.m. ET 4/14/25.

Docket Numbers: RP25-783-000.

Applicants: Colorado Interstate Gas Company, L.L.C.

Description: § 4(d) Rate Filing: Removal of Service Agreements Filing (Conoco_DCP_BHSC) to be effective 5/1/2025.

Filed Date: 3/31/25.

Accession Number: 20250331-5363.

Comment Date: 5 p.m. ET 4/14/25.

Docket Numbers: RP25-784-000.

Applicants: Destin Pipeline Company, L.L.C.

Description: § 4(d) Rate Filing: Destin Pipeline Negotiated Rate Agreement Filing to be effective 4/1/2025.

Filed Date: 3/31/25.

Accession Number: 20250331-5402.

Comment Date: 5 p.m. ET 4/14/25.

Docket Numbers: RP25-785-000.

Applicants: Columbia Gulf Transmission, LLC.

Description: Compliance filing: ELXP Incremental Rate Implementation to be effective 5/1/2025.

Filed Date: 3/31/25.

Accession Number: 20250331-5421.

Comment Date: 5 p.m. ET 4/14/25.

Docket Numbers: RP25-786-000.

Applicants: Trailblazer Pipeline Company LLC.

Description: § 4(d) Rate Filing: TPC 2025-03-31 Fuel and L&U Reimbursement and Power Cost Tracker to be effective 5/1/2025.

Filed Date: 3/31/25.

Accession Number: 20250331-5429.

Comment Date: 5 p.m. ET 4/14/25.

Docket Numbers: RP25-787-000.

Applicants: Rockies Express Pipeline LLC.

Description: § 4(d) Rate Filing: REX 2025-03-31 Negotiated Rate Agreements to be effective 4/1/2025.

Filed Date: 3/31/25.

Accession Number: 20250331-5453.

Comment Date: 5 p.m. ET 4/14/25.

Docket Numbers: RP25-788-000.

Applicants: Natural Gas Pipeline Company of America LLC.

Description: § 4(d) Rate Filing: Amendment to a Negotiated Rate Agreement Filing—Union Electric Company to be effective 4/1/2025.

Filed Date: 3/31/25.

Accession Number: 20250331-5463.

Comment Date: 5 p.m. ET 4/14/25.

Docket Numbers: RP25-789-000.

Applicants: El Paso Natural Gas Company, L.L.C.

Description: § 4(d) Rate Filing: Negotiated Rate Agreements Update (Sempra April 2025) to be effective 4/1/2025.

Filed Date: 3/31/25.

Accession Number: 20250331-5477.

Comment Date: 5 p.m. ET 4/14/25.

Docket Numbers: RP25-790-000.

Applicants: El Paso Natural Gas Company, L.L.C.

Description: § 4(d) Rate Filing: Non-Conforming Agreements Update (City of Mesa 2025) to be effective 5/1/2025.

Filed Date: 3/31/25.

Accession Number: 20250331-5486.

Comment Date: 5 p.m. ET 4/14/25.

Docket Numbers: RP25-791-000.

Applicants: Transcontinental Gas Pipe Line Company, LLC.

Description: § 4(d) Rate Filing: Clean Up Filing—TLEP Rate Record to be effective 5/1/2025.

Filed Date: 3/31/25.

Accession Number: 20250331-5501.

Comment Date: 5 p.m. ET 4/14/25.

Docket Numbers: RP25-792-000.

Applicants: Midship Pipeline Company, LLC.

Description: Annual Operational Transactions Report of Midship Pipeline Company, LLC.

Filed Date: 3/31/25.

Accession Number: 20250331-5508.

Comment Date: 5 p.m. ET 4/14/25.

Docket Numbers: RP25-793-000.

Applicants: Algonquin Gas Transmission, LLC.

Description: § 4(d) Rate Filing: Negotiated Rates—Various Releases eff 4-1-25 to be effective 4/1/2025.

Filed Date: 4/1/25.

Accession Number: 20250401-5085.

Comment Date: 5 p.m. ET 4/14/25.

Docket Numbers: RP25-794-000.

Applicants: Equitrans, L.P.

Description: § 4(d) Rate Filing: Negotiated Rate Capacity Release Agreements—4/1/2025 to be effective 4/1/2025.

Filed Date: 4/1/25.

Accession Number: 20250401-5166.

Comment Date: 5 p.m. ET 4/14/25.

Docket Numbers: RP25-795-000.

Applicants: Mountain Valley Pipeline, LLC.

Description: § 4(d) Rate Filing: Negotiated Rate Capacity Release Agreements—4/1/2025 to be effective 4/1/2025.

Filed Date: 4/1/25.

Accession Number: 20250401-5195.

Comment Date: 5 p.m. ET 4/14/25.

Docket Numbers: RP25-796-000.

Applicants: NEXUS Gas Transmission, LLC.

Description: § 4(d) Rate Filing: Negotiated Rates—Castleton 860576 eff 4-1-25 to be effective 4/1/2025.

Filed Date: 4/1/25.

Accession Number: 20250401-5274.

Comment Date: 5 p.m. ET 4/14/25.

Docket Numbers: RP25-797-000.

Applicants: Columbia Gas Transmission, LLC.

Description: § 4(d) Rate Filing: OTRA Summer 2025 to be effective 5/1/2025.

Filed Date: 4/1/25.

Accession Number: 20250401-5275.

Comment Date: 5 p.m. ET 4/14/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP25-738-001.

Applicants: Natural Gas Pipeline Company of America LLC.

Description: Tariff Amendment: Amended Wells Fargo Commodities, LLC Negotiated Rate Agreement to be effective 4/1/2025.

Filed Date: 3/31/25.

Accession Number: 20250331-5384

Comment Date: 5 p.m. ET 4/14/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: April 1, 2025.
Carlos D. Clay,
Deputy Secretary.

[FR Doc. 2025-05916 Filed 4-4-25; 8:45 am]

BILLING CODE 6717-01-P